ENVIRONMENTAL PROTECTION AGENCY

40 CFR Part 52

[EPA-R09-OAR-2024-0417; FRL-12279-01-R9]

Air Plan Conditional Approval; California; Bay Area Air Quality Management District

Correction

In Proposed Rule document 2024-27518 beginning on page 94633 in the issue of Friday, November 29th, 2024, make the following correction:

On page 94633, in the first column, in the DATES section, in the second line, “December 30, 2025” should read “December 30, 2024”.

[FR Doc. C1-2024-27518 Filed 12-10-24; 8:45 am]

BILLING CODE 0099-10-P